DEPARTMENT OF LABOR

Employment and Training Administration

Proposed Collection of Information for an Evaluation of the Implementation of Green Jobs and Health Care Training Grants; New Collection

AGENCY: Employment and Training Administration (ETA), Labor.

ACTION: Notice.

SUMMARY: The Department of Labor (Department or DOL), as part of its continuing effort to reduce paperwork and respondent burden, conducts a pre-clearance consultation program to provide the general public and Federal agencies with an opportunity to comment on proposed and/or continuing collections of information in accordance with the Paperwork Reduction Act of 1995 (PRA) [44 U.S.C. 3505(c)(2)(A)]. The program helps to ensure that requested data can be provided in the desired format, reporting burden (time and financial resources) is minimized, collection instruments are clearly understood, and the impact of the collection requirements on respondents can be properly assessed.

The proposed information collection is for an evaluation of the implementation of the Green Jobs and Health Care training grants. This evaluation is sponsored by ETA to understand the processes surrounding the design and implementation of these grants.

DATES: Written comments must be submitted to the office listed in the addressee's section below on or before October 28, 2011.

ADDRESSES: A copy of this proposed information collection request may be obtained by contacting Savi Swick at 202-693-3382 (this is not a toll-free number) or e-mail: swick.savi@dol.gov. Comments are to be submitted to Department of Labor/Employment and Training Administration, Attn: Savi Swick, 200 Constitution Avenue, NW., Room N-5641, Washington, DC 20210. Written comments may be transmitted by facsimile to 202-693-2766 (this is not a toll-free number) or e-mailed to swick.savi@dol.gov.

SUPPLEMENTARY INFORMATION:

I. Background

The proposed information collection is for an evaluation of the implementation of the Green Jobs and Health Care training grants. This evaluation is sponsored by ETA to understand the processes surrounding the design and implementation of four specific grant programs.

In February 2009, President Obama signed the American Recovery and Reinvestment Act of 2009 (Recovery Act) into law in an effort to preserve and create jobs, promote economic growth, and assist those impacted by the recession. The Recovery Act included funding for four Solicitations for Grant Applications (SGAs) with the goal of training workers in the skills required to be employed in specific high-growth and emerging industries including health care, energy efficiency, and renewable energy. The four SGAs are:

• Energy Training Partnership ($100 million allocated across 25 projects)

• Pathways Out of Poverty ($150 million for 38 projects)

• State Energy Sector Partnership and Training ($190 million for 34 projects)

• Health Care and Other High Growth Emerging Industries ($225 million for 55 projects).

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions

This proposed information collection will involve: (1) Collecting data from recipients of four DOL/ETA grants that provide funding to train unemployed, underemployed, dislocated, and incumbent workers for employment and to create career pathways in health care and other growing industries; (2) conducting on-site in-depth interviews with grantees and their program partner staff; (3) conducting focus groups with grant participants; and (4) administering a web/telephone survey of all grant project directors and selected program partner staff.

Agency: Employment and Training Administration.

Type of Review: New Collection.

Title of Collection: The Evaluation of The Green Jobs and Health Care Training Grants Implementation.

OMB Control Number: 1205-0NEW.

Affected Public: Community-based organizations.

Estimated Number of Respondents: 2,252.

Frequency: Once at each type of collection (interviews, focus groups, survey).

Total Estimated Annual Responses: 2,252.

Estimated Average Time per Response: 31 minutes.

Estimated Total Annual Burden Hours: 1,186.

Total Estimated Annual Cost Burden (excluding hour costs): $0.

Data collection activity | Number of respondents | Total burden hours | Average hourly wage rate* | Total annualized cost
In-Depth Interviews:
a. Grant Administrator | 36 | 36 | $44.84 | $1,614
b. Education/Training Provider Partner | 72 | 72 | 25.01 | 1,801
c. Workforce Partner | 36 | 36 | 19.48 | 701
d. Employer/Union Partner | 72 | 72 | 31.25 | 2,250
e. Support Services/Other Partner | 44 | 44 | 19.48 | 857
Subtotal—Interviews | 260 | 260 |  | 7,223
Focus Groups:
a. Participant Information Sheet | 360 | 90 | 16.00 | 1,440
b. Informed Consent | 360 | 30 | 16.00 | 480
c. Discussion | 360 | 540 | 16.00 | 8,640
Subtotal—Focus Groups | 1,080 | 660 |  | 10,560
Grantee Surveys:
a. Screening Calls | 152 | 13 | 44.84 | 583
b. Web/Telephone Survey | 760 | 253 | 28.01 | 7,087
Subtotal—Surveys | 912 | 266 |  | 7,670
Total | 2,252 | 1,186 | n/a | 25,453

Comments submitted in response to this notice will be summarized and may be included in the request for Office of Management and Budget approval of the final information collection request. The comments will become a matter of public record.

Dated: August 22, 2011.
Jane Oates,
Assistant Secretary, Employment and Training Administration.

[FR Doc. 2011-22002 Filed 8-26-11; 8:45 am]

BILLING CODE 4510-FN-P